DEPARTMENT OF ENERGY

Federal Energy Regulatory Commission

[Docket Nos. CP18-5-000, CP18-5-001]

Notice Affording the Parties an Opportunity To File Pleadings: Constitution Pipeline Company, LLC

1. On September 14, 2018, Constitution Pipeline Company, LLC, filed with the United States Court of Appeals for the District of Columbia Circuit (D.C. Circuit) a petition for review of the Commission's orders in Constitution Pipeline Co., LLC, 162 FERC ¶ 61,014 (2018), and Constitution Pipeline Co., LLC, 164 FERC ¶ 61,029 (2018). On February 25, 2019, the Commission filed an unopposed motion for voluntary remand of the above-captioned proceedings ¹ so that it may consider the implications of the D.C. Circuit's decision in Hoopa Valley Tribe v. FERC.² In the Voluntary Remand Motion, the Commission stated that it “will permit the parties to file, within 30 days of the Court's order on this motion, supplemental pleadings and record materials on the significance of the Hoopa Valley decision. The Commission will also permit the parties to file responsive pleadings within 30 days after that initial deadline.” ³ The D.C. Circuit granted the Voluntary Remand Motion on February 28, 2019.⁴

¹ Constitution Pipeline Co., LLC v. FERC, Unopposed Motion of Respondent Federal Energy Regulatory Commission for Voluntary Remand, No. 18-1251 (filed Feb. 25, 2019) (Voluntary Remand Motion).

² Hoopa Valley Tribe v. FERC, 913 F.3d 1099 (D.C. Cir. 2019) (Hoopa Valley decision).

³ Voluntary Remand Motion at 2.

⁴ Constitution Pipeline Co., LLC v. FERC, No. 18-1251, Order (issued Feb. 28, 2019).

2. Accordingly, the parties are hereby afforded the opportunity to file supplemental pleadings and record materials with the Commission by April 1, 2019, addressing the significance to these proceedings of the Hoopa Valley decision. The parties may file responsive pleadings with the Commission by May 1, 2019.

Dated: March 11, 2019.
Kimberly D. Bose,
Secretary.

[FR Doc. 2019-05192 Filed 3-19-19; 8:45 am]

BILLING CODE 6717-01-P